DEPARTMENT OF COMMERCE

Foreign-Trade Zones Board

[B-81-2014]

Foreign-Trade Zone 114—Peoria, Illinois; Authorization of Production Activity, Bell Sports, Inc. (Football Helmets), Rantoul, Illinois

On November 7, 2014, Bell Sports, Inc. submitted a notification of proposed production activity to the Foreign-Trade Zones (FTZ) Board for its facility within FTZ 114, Subzone 114F, in Rantoul, Illinois.

The notification was processed in accordance with the regulations of the FTZ Board (15 CFR part 400), including notice in the Federal Register inviting public comment (79 FR 68662, 11/18/2014). The FTZ Board has determined that no further review of the activity is warranted at this time. The production activity described in the notification is authorized, subject to the FTZ Act and the Board's regulations, including Section 400.14.

Dated: March 6, 2015.
Andrew McGilvray,
Executive Secretary.

[FR Doc. 2015-05837 Filed 3-12-15; 8:45 am]

BILLING CODE 3510-DS-P